DEPARTMENT OF THE INTERIOR

National Park Service

[NPS-NER-GATE-16013; PPNEGATE00/PMP00UP05.YP0000, PX.P0075604H.00.1]

Record of Decision for Final General Management Plan/Environmental Impact Statement, Gateway National Recreation Area, New Jersey and New York.

AGENCY: National Park Service, Interior.

ACTION: Notice of Availability.

SUMMARY: Pursuant to the National Environmental Policy Act of 1969, 42 U.S.C. 4332(2)(C), the National Park Service (NPS) announces the availability of the Record of Decision for the Final General Management Plan and Environmental Impact Statement (Final GMP/EIS), Gateway National Recreation Area (Gateway), New Jersey and New York. On June 11, 2014, the Regional Director, Northeast Region, signed the Record of Decision approving a new General Management Plan (GMP) for Gateway. As soon as practicable, the NPS will begin to implement the selected alternative.

FOR FURTHER INFORMATION CONTACT: Superintendent Jennifer Nersesian, Gateway National Recreation Area, 210 New York Avenue, Staten Island, New York 10305 or telephone at (718) 354-4664.

ADDRESSES: Copies of the Record of Decision may be obtained from the contact listed below; the park's Web site, http://www.nps.gov/gate; or the NPS Planning, Environment, and Public Comment (PEPC) Web site, http://parkplanning.nps.gov/GATEROD.

SUPPLEMENTARY INFORMATION: On June 11, 2014, the Regional Director, Northeast Region, signed the Record of Decision selecting Alternative B as the approved General Management Plan (GMP) for Gateway. The Record of Decision includes a statement of the decision made; synopses of other alternatives considered; the basis for the decision; a description of the environmentally preferable alternative; a finding on impairment of park resources and values; a listing of measures to minimize environmental harm; and an overview of public involvement in the decision-making process.

The NPS will implement Alternative B: Discovering Gateway, which was identified as the agency's preferred alternative in the Final GMP/EIS. The complete description of the selected alternative is provided in chapter 2 of the Final GMP/EIS in the following sections: Management Concepts for Each Alternative, Management Zones, Desired Conditions Common to Both Alternatives and Alternative B: Discovering Gateway.

Under the selected alternative, the NPS will provide the widest range of activities and most recreation opportunities in dispersed locations throughout the park. New connections will be forged with park lands and communities adjacent and nearby Gateway. This alternative will offer the most instructional programming and skills development and draw people into the park to increase awareness and enjoyment of Gateway's historic resources and the natural environment. Gateway will provide more opportunities for multi-day excursions and overnight stays within the park and proposes different types of camping and lodging, varied use levels, and a range of supporting facilities. Increased use will be balanced with additional monitoring and management of wildlife and habitats. More convenient and affordable park access will be developed through trail connections, bicycle infrastructure, public transit, and waterborne transportation. The selected alternative prioritizes joint management and operations for visitor services, orientation, programs, and facilities with New York City and other partners.

The selected alternative describes the approach that the park will take to mitigate and adapt to the effects of climate change. Specific options to protect Gateway's resources include integrating long-term planning into park operations, monitoring observed and projected climate trends, conducting climate-related vulnerability assessments for fundamental resources and values, monitoring climate sensitive species, and implementing a range of adaptive management actions. Natural resource protection and restoration efforts will focus on softening hardened coastal edges, restoring wetland and coastal habitats and improving water quality within park waters. The park will pursue public-private partnerships that assist with the preservation and reuse of historic structures and landscapes for a wide variety of uses including visitor services, administrative and partner needs, recreational business opportunities or compatible private use. Gateway will continue to collaborate with a variety of academic and scientific institutions, non-profit organizations and agencies on research and projects to find creative solutions for the long-term preservation of natural and cultural resources.

The NPS selected Alternative B: Discovering Gateway because it best promotes a national park experience, provides a diversity of resource-based recreational opportunities and balances use with protection of the park's fundamental resources and values. The enabling legislation and park purpose identified in the Final GMP/EIS were given the highest consideration as the basis for selecting Alternative B. The selected alternative provides for the greatest diversity of outdoor recreation and access to park shorelines for water-based activities—primary reasons for which Gateway was established as the first NPS urban national recreation area—and emphasizes new physical and programmatic connections with adjacent communities and local government park systems to further increase opportunities for park access. The selected alternative focuses on the preservation and interpretation of the key resources mentioned in the park's legislation and emphasizes new partnerships with New York City and adjacent communities that will greatly enhance the park's ability to fulfill the intent of the enabling legislation and support targeted resource protection goals.

This planning process was initiated in 2009 and included extensive involvement with key stakeholders, agencies, resource experts, and members of the public. Information was disseminated through newsletters and press releases, and all interested parties were provided with opportunities to provide input and feedback during public meetings, workshops, and document review periods. The Draft General Management Plan and Environmental Impact Statement (Draft GMP/EIS) was available for public and agency review from August 2, 2013, through October 22, 2013, with five public open houses held in August and September 2013. The Final GMP/EIS responded to, and incorporated, agency and public comments received on the Draft GMP/EIS. The Final GMP/EIS was released for a 30-day no action period on May 9, 2014, ending June 9, 2014.

Dated: June 11, 2014.
Michael A. Caldwell,
Regional Director, Northeast Region, National Park Service.

[FR Doc. 2014-20233 Filed 8-25-14; 8:45 am]

BILLING CODE 4310-WV-P